DEPARTMENT OF TRANSPORTATION

Federal Aviation Administration

Noise Exposure Map Notice; Receipt of Noise Compatibility Program and Request for Review, Cincinnati/Northern Kentucky International Airport, Covington, KY

AGENCY: Federal Aviation Administration, DOT.

ACTION: Notice.

SUMMARY: The Federal Aviation Administration (FAA) announces its determination that the Noise Exposure Maps submitted by the Kenton County Airport Board for Cincinnati/Northern Kentucky International Airport under the provisions of 49 U.S.C. 47501 et seq. (Aviation Safety and Noise Abatement Act) and 14 CFR Part 150 are in compliance with applicable requirements. The FAA also announces that it is reviewing a proposed Noise Compatibility Program that was submitted for Cincinnati/Northern Kentucky International Airport under Part 150 in conjunction with the Noise Exposure Map, and that this program will be approved or disapproved on or before April 7, 2008.

EFFECTIVE DATE: The effective date of the FAA's determination on the Noise Exposure Maps and of the start of its review of the associated Noise Compatibility Program is October 9, 2007. The public comment period ends December 8, 2007.

FOR FURTHER INFORMATION CONTACT: Peggy S. Kelley, Federal Aviation Administration, 2862 Business Park Drive, Building G, Memphis, Tennessee 38118-1555, telephone 901-322-8186. Comments on the proposed Noise Compatibility Program should also be submitted to the above office.

SUPPLEMENTARY INFORMATION: This Notice announces that the FAA finds that the Noise Exposure Maps submitted for Cincinnati/Northern Kentucky International Airport are in compliance with applicable requirements of Part 150, effective October 9, 2007. Further, FAA is reviewing a proposed Noise Compatibility Program for that Airport which will be approved or disapproved on or before April 7, 2008. This notice also announces the availability for this Program for public review and comment.

Under 49 U.S.C. 47503 (the Aviation and Noise Abatement Act, (the Act)) an airport operator may submit to the FAA Noise Exposure Maps which meet applicable regulations and which depict non-compatible land uses as of the date of submission of such maps, a description of projected aircraft operations, and the ways in which such operations will affect such maps. The Act requires such maps to be developed in consultation with interested and affected parties in the local community, government agencies, and persons using the airport.

An airport operator who has submitted Noise Exposure Maps that are found by FAA to be in compliance with the requirements of Part 150, promulgated pursuant to the Act, may submit a Noise Compatibility Program for FAA approval which sets forth the measures the operator has taken or proposes to take to reduce existing non-compatible uses and prevent the introduction of additional non-compatible uses.

The Kenton County Airport Board submitted to the FAA on February 21, 2007, Noise Exposure Maps, descriptions and other documentation that were produced during the Cincinnati/Northern Kentucky International Airport FAR Part 150 Noise Compatibility Study conducted between December 2003 and December 2006. It was requested that the FAA review this material as the Noise Exposure Maps, as described in Section 47503 of the Act, and that the noise mitigation measures, to be implemented jointly by the airport and surrounding communities, be approved as a Noise Compatibility Program under Section 47504 of the Act.

The FAA has completed its review of the Noise Exposure Maps and related descriptions submitted by Kenton County Airport Board. The specific documentation determined to constitute the Noise Exposure Maps includes: NEM-1 Existing (2006) Noise Exposure Map and Exhibit NEM-2 Future (2011) Noise Exposure Map/Noise Compatibility Program; Exhibit 2-1, Airport Environs; Exhibit 2-3, Generalized Existing Land Use; Exhibit 2-4 Existing Noise Sensitive Public Facilities; Exhibit 3-1 Existing (2006) Baseline Noise Exposure Contour; Exhibit 3-2 Future 2011 Baseline Noise Exposure Contour; Exhibit 3-3 Comparison of Existing (2006) Baseline and Future (2011) Baseline Noise Exposure Contours; Exhibit 4-1, Existing and Recommended Departure Corridors; Exhibit 4-2 Existing and Recommended Runup Locations; Exhibit 4-3, 36R Proposed Departure; Exhibit 4-6 2011 NEM/NCP Noise Exposure Contour compared to Future (2011) Baseline Noise Exposure contour; Table 4-2, Comparison of Baseline and NCP Housing, Population and Noise-Sensitive Public Facility Incompatibilities; Exhibit 4-7 Future (2006) NCP Noise Exposure Contour with 60 DNL; and Exhibit 4-8, Future (2011) NCP Noise Exposure Contour with 60 DNL description. The FAA has determined that these maps for Cincinnati/Northern Kentucky International Airport are in compliance with applicable requirements. This determination is effective on October 9, 2007. FAA's determination on the airport operator's Noise Exposure Maps is limited to a finding that the maps were developed in accordance with the procedures contained in Appendix A of FAR Part 150. Such determination does not constitute approval of the airport operator's data, information or plans, or a commitment to approve a Noise Compatibility Program or to fund the implementation of that Program.

If questions arise concerning the precise relationship of specific properties to noise exposure contours depicted on a Noise Exposure Map submitted under Section 47503 of the Act, it should be noted that the FAA is not involved in any way in determining the relative locations of specific properties with regard to the depicted noise exposure contours, or in interpreting the Noise Exposure Maps to resolve questions concerning, for example, which properties should be covered by the provisions of Section 47506 of the Act. These functions are inseparable from the ultimate land use control and planning responsibilities of local government. These local responsibilities are not changes in any way under Part 150 or through FAA's review of Noise Exposure Maps. Therefore, the responsibility for the detailed overlaying of noise exposure contours onto the map depicting properties on the surface rests exclusively with the airport operator that submitted those maps, or with those public agencies and planning agencies with which consultation is required under Section 47503 of the Act. The FAA has relied on the certification by the airport operator, under Section 150.21 of Part 150, that the statutorily required consultation has been accomplished.

The FAA has formally received the Noise Compatibility Program for Cincinnati/Northern Kentucky International Airport, also effective on October 9, 2007. Preliminary review of the submitted material indicates that it conforms to the requirements for the submittal of Noise Compatibility Programs, but that further review will be necessary prior to approval or disapproval of the program. The formal review period, limited by law to a maximum of 180 days, will be completed on or before April 7, 2008.

The FAA's detailed evaluation will be conducted under the provisions of Part 150, Section 150.33. The primary considerations in the evaluation process are whether the proposed measures may reduce the level of aviation safety, create an undue burden on interstate or foreign commerce, or be reasonably consistent with obtaining the goal of reducing existing non-compatible land uses and preventing the introduction of additional non-compatible land uses.

Interested persons are invited to comment on the proposed program with specific reference to these factors. All comments, other than those properly addressed to local land use authorities, will be considered by the FAA to the extent practicable. Copies of the Noise Exposure Maps, the FAA's evaluation of the maps, and the proposed Noise Compatibility Program are available for examination at the following locations: Federal Aviation Administration, Memphis Airports District Office, 2862 Business Park Drive, Building G, Memphis, Tennessee 38118-1555; Kenton County Airport Board, Cincinnati/Northern Kentucky Airport, Second Floor, Terminal One, Hebron, Kentucky.

Questions may be directed to the individual named above under the heading, FOR FURTHER INFORMATION CONTACT.

Issued in Memphis, Tennessee, October 9, 2007.
Phillip J. Braden,
Manager, Memphis Airports District Office.

[FR Doc. 07-5102 Filed 10-16-07; 8:45 am]

BILLING CODE 4910-13-M